DEPARTMENT OF ENERGY

Federal Energy Regulatory Commission

Combined Notice of Filings #2

Take notice that the Commission received the following electric corporate filings:

Docket Numbers: EC18-3-000.

Applicants: La Paloma Generating Company, LLC, CXA La Paloma, LLC.

Description: Application for Authorization Under Section 203 of the Federal Power Act, Request for Waivers, and Request for Expedited Action of La Paloma Generating Company, LLC, et al.

Filed Date: 10/10/17.

Accession Number: 20171010-5368.

Comments Due: 5 p.m. ET 10/31/17.

Take notice that the Commission received the following electric rate filings:

Docket Numbers: ER18-22-001.

Applicants: PPL Electric Utilities Corporation, PJM Interconnection, L.L.C.

Description: Tariff Amendment: PPL submits amendment to the Att. H-8G revisions filed in Docket No. ER18-22 to be effective 1/1/2018.

Filed Date: 10/12/17.

Accession Number: 20171012-5091.

Comments Due: 5 p.m. ET 11/2/17.

Docket Numbers: ER18-53-000.

Applicants: CXA La Paloma, LLC.

Description: Baseline eTariff Filing: Market Based Rate Application to be effective 10/11/2017.

Filed Date: 10/10/17.

Accession Number: 20171010-5314.

Comments Due: 5 p.m. ET 10/31/17.

Docket Numbers: ER18-59-000.

Applicants: Raven Power Marketing LLC.

Description: Tariff Cancellation: Notice of Cancellation to be effective 10/13/2017.

Filed Date: 10/12/17.

Accession Number: 20171012-5061.

Comments Due: 5 p.m. ET 11/2/17.

Docket Numbers: ER18-60-000.

Applicants: Sapphire Power Marketing LLC.

Description: Tariff Cancellation: Notice of Cancellation to be effective 10/13/2017.

Filed Date: 10/12/17.

Accession Number: 20171012-5062.

Comments Due: 5 p.m. ET 11/2/17.

Docket Numbers: ER18-61-000.

Applicants: Portland General Electric Company.

Description: § 205(d) Rate Filing: Att K Revision Filing to be effective 12/12/2017.

Filed Date: 10/12/17.

Accession Number: 20171012-5063.

Comments Due: 5 p.m. ET 11/2/17.

Docket Numbers: ER18-62-000.

Applicants: MATL LLP.

Description: § 205(d) Rate Filing: Removal of Interconnection-wide Transmission Planning Process to be effective 12/12/2017.

Filed Date: 10/12/17.

Accession Number: 20171012-5072.

Comments Due: 5 p.m. ET 11/2/17.

Docket Numbers: ER18-63-000.

Applicants: Idaho Power Company.

Description: § 205(d) Rate Filing: Attachment K-2017 NTTG Updates to be effective 12/12/2017.

Filed Date: 10/12/17.

Accession Number: 20171012-5074.

Comments Due: 5 p.m. ET 11/2/17.

Docket Numbers: ER18-64-000.

Applicants: Northern Indiana Public Service Company, PJM Interconnection, L.L.C.

Description: § 205(d) Rate Filing: NIPSCO submits Interconnection Agreement SA No. 4247 to be effective 7/19/2017.

Filed Date: 10/12/17.

Accession Number: 20171012-5075.

Comments Due: 5 p.m. ET 11/2/17.

Docket Numbers: ER18-65-000.

Applicants: PJM Interconnection, L.L.C.

Description: § 205(d) Rate Filing: Wholesale Market Participation Agreement No. 4812; Queue W4-036 to be effective 9/26/2017.

Filed Date: 10/12/17.

Accession Number: 20171012-5093.

Comments Due: 5 p.m. ET 11/2/17.

Docket Numbers: ER18-66-000.

Applicants: PacifiCorp.

Description: § 205(d) Rate Filing: OATT Revised Attachment K ? Eliminate I/C Wide Planning Process to be effective 12/12/2017.

Filed Date: 10/12/17.

Accession Number: 20171012-5100.

Comments Due: 5 p.m. ET 11/2/17.

Docket Numbers: ER18-67-000.

Applicants: Portland General Electric Company.

Description: § 205(d) Rate Filing: NTTG Revised Funding Agreement to be effective 1/1/2018.

Filed Date: 10/12/17.

Accession Number: 20171012-5101.

Comments Due: 5 p.m. ET 11/2/17.

Take notice that the Commission received the following electric securities filings:

Docket Numbers: ES18-3-000.

Applicants: PacifiCorp.

Description: Application under Section 204 of the Federal Power Act for Authorization to Issue Securities of PacifiCorp.

Filed Date: 10/12/17.

Accession Number: 20171012-5105.

Comments Due: 5 p.m. ET 11/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2017.
Nathaniel J. Davis, Sr.,
Deputy Secretary.

[FR Doc. 2017-22527 Filed 10-17-17; 8:45 am]

BILLING CODE 6717-01-P